DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer at (240) 276-0361 or carlos.graham@samhsa.hhs.gov.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including the use of automated collection techniques or other forms of information technology.

Proposed Project: Survey of State Underage Drinking Prevention Policies, Programs, and Practices

(OMB No. 0930-0316)—Extension

The Sober Truth on Preventing Underage Drinking Act (the “STOP Act”) (Pub. L. 109-422, reauthorized in 2016 by Pub. L. 114-255) states that the “Secretary [of Health and Human Services] shall . . . annually issue a report on each state's performance in enacting, enforcing, and creating laws, regulations, and programs to prevent or reduce underage drinking.” The Secretary has delegated responsibility for this report to SAMHSA. Therefore, SAMHSA has developed a Survey of State Underage Drinking Prevention Policies, Programs, and Practices (the “State Survey”) to provide input for the state-by-state report on prevention and enforcement activities related to the underage drinking component of the Annual Report to Congress on the Prevention and Reduction of Underage Drinking (“Report to Congress”).

The STOP Act also requires the Secretary to develop “a set of measures to be used in preparing the report on best practices” and to consider categories including but not limited to the following:

Category #1: Sixteen specific underage drinking laws/regulations enacted at the state level (e.g., laws prohibiting sales to minors; laws related to minors in possession of alcohol). Note that ten additional policies have been added to the Report to Congress pursuant to Congressional appropriations language or the Secretary's authority granted by the STOP Act;

Category #2: Enforcement and educational programs to promote compliance with these laws/regulations;

Category #3: Programs targeted to youths, parents, and caregivers to deter underage drinking and the number of individuals served by these programs;

Category #4: The amount that each state invests, per youth capita, on the prevention of underage drinking broken into five categories: (a) Compliance check programs in retail outlets; (b) checkpoints and saturation patrols that include the goal of reducing and deterring underage drinking; (c) community-based, school-based, and higher-education-based programs to prevent underage drinking; (d) underage drinking prevention programs that target youth within the juvenile justice and child welfare systems; and (e) any other state efforts or programs that target underage drinking.

Congress' purpose in mandating the collection of data on state policies, programs, and practices through the State Survey is to provide policymakers and the public with otherwise unavailable but much needed information regarding state underage drinking prevention policies and programs. SAMHSA and other federal agencies that have underage drinking prevention as part of their mandate use the results of the State Survey to inform federal programmatic priorities, as do other stakeholders, including community organizations. The information gathered by the State Survey has established a resource for state agencies and the general public for assessing policies and programs in their own state and for becoming familiar with the policies, programs, practices, and funding priorities of other states.

Because of the broad scope of data required by the STOP Act, SAMHSA relies on existing data sources where possible to minimize the survey burden on the states. SAMHSA uses data on state underage drinking policies from the National Institute of Alcohol Abuse and Alcoholism's Alcohol Policy Information System (APIS), an authoritative compendium of state alcohol-related laws. The APIS data is augmented by SAMHSA with original legal research on state laws and policies addressing underage drinking to include all of the STOP Act's requested laws and regulations (Category #1 of the four categories included in the STOP Act, as described above, page 2).

The STOP Act mandates that the State Survey assess “best practices” and emphasize the importance of building collaborations with federally recognized tribal governments (“tribal governments”). It also emphasizes the importance at the federal level of promoting interagency collaboration and to that end establishes the Interagency Coordinating Committee on the Prevention of Underage Drinking (ICCPUD). SAMHSA has determined that to fulfill the Congressional intent, it is critical that the State Survey gather information from the states regarding the best practices standards that they apply to their underage drinking programs, collaborations between states and tribal governments, and the development of state-level interagency collaborations similar to ICCPUD.

SAMHSA has determined that data on Categories #2, #3, and #4 mandated in the STOP Act (as listed on page 2) (enforcement and educational programs; programs targeting youth, parents, and caregivers; and state expenditures) as well as states' best practices standards, collaborations with tribal governments, use of social marketing or counter-advertising campaigns, and state-level interagency collaborations are not available from secondary sources and therefore must be collected from the states themselves. The State Survey is therefore necessary to fulfill the Congressional mandate found in the STOP Act. Furthermore, the uniform collection of these data from the states over the last ten years has created a valuable longitudinal dataset, and the State Survey's renewal is vital to maintaining this resource.

The State Survey is a single document that is divided into four sections, as follows:

Section 1: Enforcement programs to promote compliance with underage drinking laws and regulations (as described in Category #2);

Section 2A: Programs and media campaigns targeted to youth, parents, and caregivers to deter underage drinking (as described in Category #3 above);

Sections 2B and 2C: State interagency collaboration to implement prevention programs and media campaigns, state best-practice standards, and collaborations with tribal governments (as described above);

Section 2D: The amount that each state invests on the prevention of underage drinking in the categories specified in the STOP Act (see description of Category #4 above) and descriptions of any dedicated fees, taxes, or fines used to raise these funds.

The number of questions in each section is as follows:

Section 1: 38 questions

Section 2A: 15 questions

Section 2B: 12 questions

Section 2C: 10 questions

Section 2D: 10 questions

Total: 85 questions

Note that the number of questions in Section 2A is an estimate. This section asks states to identify up to ten programs that are specific to underage drinking prevention. For each program identified, there are three follow-up questions. Based on the average number of programs per state reported in the State Survey's ten-year history, it is anticipated that states will report an average of five programs for a total of 15 questions.

It is anticipated that most respondents will actually respond to only a subset of this total. The State Survey is designed with “skip logic,” which means that many questions will only be directed to a subset of respondents who report the existence of particular programs or activities.

No changes in content are proposed for the current version of the Survey. Note that the title of the survey has been modified from “Survey of State Underage Drinking Prevention Policies and Practices” to “Survey of State Underage Drinking Prevention Policies, Programs, and Practices” to better reflect the subjects addressed by the State Survey questions.

To ensure that the State Survey obtains the necessary data while minimizing the burden on the states, SAMHSA has conducted a lengthy and comprehensive planning process. It sought advice from key stakeholders (as mandated by the STOP Act) including hosting multiple stakeholders' meetings, conducting two field tests with state officials likely to be responsible for completing the State Survey, and investigating and testing various State Survey formats, online delivery systems, and data collection methodologies.

Based on these investigations, SAMHSA collects the required data using an online survey data collection platform (SurveyMonkey). Links to the four sections of the survey are distributed to states via email. The State Survey is sent to each state governor's office and the Office of the Mayor of the District of Columbia. Based on the experience from the last ten years of administering the State Survey, it is anticipated that the state governors will designate staff from state agencies that have access to the requested data (typically state Alcohol Beverage Control [ABC] agencies and state Substance Abuse Program agencies). SAMHSA provides both telephone and electronic technical support to state agency staff and emphasizes that the states are expected to provide data from existing state databases and other data sources available to them. The burden estimate below takes into account these assumptions.

The estimated annual response burden to collect this information is as follows:

Instrument | Number of respondents | Responses/ respondent | Burden/ response (hrs) | Annual burden (hrs)
State Survey | 51 | 1 | 17.7 | 902.7

Written comments and recommendations for the proposed information collection should be sent within 30 days of publication of this notice to www.reginfo.gov/public/do/PRAMain . Find this particular information collection by selecting “Currently under 30-day Review—Open for Public Comments” or by using the search function.

Carlos Graham,
Social Science Analyst.

[FR Doc. 2021-20607 Filed 9-22-21; 8:45 am]

BILLING CODE 4162-20-P